DEPARTMENT OF HEALTH AND HUMAN SERVICES

Centers for Disease Control and Prevention

National Center for Environmental Health/Agency for Toxic Substances and Disease Registry

The Program Peer Review Subcommittee of the Board of Scientific Counselors (BSC), National Center for Environmental Health (NCEH)/Agency for Toxic Substances and Disease Registry (ATSDR): Teleconference

In accordance with section 10(a)(2) of the Federal Advisory Committee Act (Pub. L. 92-463), NCEH/ATSDR announces the following subcommittee meeting:

Name: Program Peer Review Subcommittee (PPRS).

Time and Date: 12:30 p.m.-2 p.m., April 4, 2005.

Place: The teleconference will originate at the National Center for Environmental Health/Agency for Toxic Substances and Disease Registry in Atlanta, Georgia. Please see Supplementary Information for details on accessing the teleconference.

Status: Open to the public, teleconference access limited only by availability of telephone ports.

Purpose: Under the charge of the Board of Scientific counselors (BSC), NCEH/ATSDR, the Program Peer Review Subcommittee establishes and monitors working groups of technical experts that perform program peer reviews of NCEH and ATSDR. The Subcommittee, working with the NCEH/ATSDR, Office of Sciences (OS), will establish the schedule and process for program peer reviews, nominate working group members, review summary reports and recommendations, and report back to the Board. The OS will establish agency policy for program peer review and directly support each working group by collating program documents, and organizing the working groups review and site visit. Each NCEH/ATSDR program eligible for review will be reviewed every 5 years according to CDC/ATSDR policy.

Matters To Be Discussed: The teleconference agenda will include a review of action items from the previous meeting, discussion and updates on the program peer review process, and the draft outline of a generic self-assessment process.

Agenda items are tentative and subject to change as priorities changes.

Supplementary Information: This conference call is scheduled to begin at 12:30 p.m. Eastern Standard Time. To participate in the teleconference, please dial (877) 315-6535 and enter conference code 383520.

For Further Information Contact: Drue Barrett, Ph.D., Executive Secretary, PRRS, NCEH/ATSDR, M/S E-28, 1600 Clifton Road, NE., Atlanta, Georgia 30333, telephone 404 498-0003.

The Director, Management Analysis and Services Office, has been delegated the authority to sign Federal Register notices pertaining to announcements of meetings and other committee management activities for both CDC and ATSDR.

Dated: March 4, 2005.
Alvin Hall,
Director, Management Analysis and Services Office, Centers for Disease Control and Prevention.

[FR Doc. 05-4806 Filed 3-10-05; 8:45 am]

BILLING CODE 4163-70-P